DEPARTMENT OF COMMERCE

National Oceanic and Atmospheric Administration

[RTID 0648-XD286]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Ecosystem and Ocean Planning Advisory Panel and Committee will hold a meeting. See SUPPLEMENTARY INFORMATION for agenda details.

DATES: The meeting will take place from Wednesday, September 13, 2023, at 1:30 p.m. to Thursday, September 14, 2023 at 4 p.m.

ADDRESSES: This will be an in-person meeting with a virtual option. Advisory Panel and Committee members, other invited meeting participants, and members of the public will have the option to participate in person at the Royal Sonesta Harbor Court, 550 Light Street, Baltimore, MD 21202, or virtually via Webex webinar. Webinar connection instructions and briefing materials will be available at www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the Ecosystem and Ocean Planning Advisory Panel and Committee will review a draft policy/process for MAFMC review of exempted fishing permit applications for species listed as ecosystem components under the MAFMC's Unmanaged Forage Omnibus Amendment. The Advisory Panel and Committee will then provide recommendations to the MAFMC for revisions to or adoption of this policy. The Advisory Panel and Committee will also discuss an ongoing comprehensive review of the MAFMC Ecosystem Approach to Fisheries Management (EAFM) risk assessment. The Advisory Panel and Committee will review all components of the risk assessment, including elements, definitions, indicators, and risk ranking criteria. They will then develop recommendations for MAFMC consideration for revisions to the EAFM risk assessment and potential opportunities to apply the risk assessment in the management process. A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: August 23, 2023.
Rey Israel Marquez,
Acting Deputy Director, Office of Sustainable Fisheries, National Marine Fisheries Service.

[FR Doc. 2023-18491 Filed 8-25-23; 8:45 am]

BILLING CODE 3510-22-P